DEPARTMENT OF AGRICULTURE

Farm Service Agency

U.S. Warehouse Act Fees

AGENCY: Farm Service Agency, USDA.

ACTION: Notice; correction.

SUMMARY: The Farm Service Agency published a notice on November 28, 2005 (70 FR 71262) setting forth a schedule increasing the inspection and annual operational fees warehouse operators are charged under the United States Warehouse Act (USWA). The published notice contained an error in the cotton warehouse inspection fees. This notice corrects the error.

EFFECTIVE DATE: January 1, 2006.

FOR FURTHER INFORMATION CONTACT: Roger Hinkle, (202) 720-7433; e-mail: Roger.Hinkle@usda.gov.

Correction

In the Federal Register of November 28, 2005, in FR Doc. 05-23353, on page 71263, correct the sentence following the Table labeled “Cotton,” in columns 1 and 2 to read as follows:

Inspection fees will be charged at the rate of $85 for each 1,000 bales of licensed capacity, or fraction thereof, but in no case less than $170 nor more than $1,700.

Signed in Washington, DC, on December 28, 2005.
Teresa C. Lasseter,
Administrator, Farm Service Agency.

[FR Doc. E5-8227 Filed 1-3-06; 8:45 am]

BILLING CODE 3410-05-P